DEPARTMENT OF TRANSPORTATION

Federal Aviation Administration

14 CFR Part 39

[Docket No. 2003-CE-31-AD; Amendment 39-13403; AD 2003-26-06]

RIN 2120-AA64

Airworthiness Directives; Anjou Aeronautique Safety Belts and Restraint Systems

AGENCY: Federal Aviation Administration (FAA), DOT.

ACTION: Final rule.

SUMMARY: The FAA adopts a new airworthiness directive (AD) for certain Anjou Aeronautique (ANJOU) (formerly TRW Repa S.A., formerly L'AIGLON) safety belts and restraint systems that are installed in aircraft. This AD requires you to inspect safety belts and restraint systems for defects and service life limits, and, if necessary, repair safety belts and restraint systems that have not reached service life limits; and replace safety belts and restraint systems that have reached service life limits. This AD is the result of reports of inadvertent unbuckling of the ANJOU seat belts and two safety recommendations to take AD action. We are issuing this AD to detect and correct defective safety belts and restraint systems, which could result in failure of the safety belts and restraint systems. This failure could lead to lack of occupant restraint during normal or crash loads.

DATES: This AD becomes effective on February 17, 2004.

The Director of the Federal Register approved the incorporation by reference of certain publications listed in the regulation as of February 17, 2004.

ADDRESSES: You may get the service information identified in this AD from Anjou Aeronautique, 13 Avenue De L'Osier, 49125 Tierce, France; telephone: 33 0 2 41 42 88 92; facsimile: 33 0 2 41 42 15 77.

You may view the AD docket at FAA, Central Region, Office of the Regional Counsel, Attention: Rules Docket No. 2003-CE-31-AD, 901 Locust, Room 506, Kansas City, Missouri 64106. Office hours are 8 a.m. to 4 p.m., Monday through Friday, except Federal holidays.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Events Have Caused This AD?

The FAA issued Special Airworthiness Information Bulletin (SAIB) Number CE-02-44, dated September 4, 2002, for SOCATA—Groupe AEROSPATIALE (SOCATA) Model TBM 700 airplanes, concerning ANJOU seat belts. At that time, FAA did not make a determination of an unsafe condition and take AD action.

Later, FAA issued SAIB Number CE-03-06, dated November 7, 2002, for SOCATA Rallye 150T, Rallye 150ST, Rallye 235E, and Rallye 235C airplanes, concerning ANJOU seat belts. Again, FAA then did not make a determination of an unsafe condition and take AD action.

We continued to receive field reports of inadvertent unbuckling of the ANJOU seat belts. The FAA received two safety recommendations to take AD action (NPRM) to propose to require replacement of certain safety belts and restraint systems.

In light of the field reports and safety recommendations, we issued a proposal to amend part 39 of the Federal Aviation Regulations (14 CFR part 39) to include an AD that would apply to all SOCATA Models TB 9, TB 10, TB 20, TB 21, TB 200, TMB 700, Rallye 100S, Rallye 150T, Rallye 150ST, Rallye 235E, and Rallye 235C airplanes. This proposal was published in the Federal Register as a notice of proposed rulemaking (NPRM) on March 7, 2003 (68 FR 11015). The NPRM proposed to require you to replace certain safety belts and restraint systems.

Comments received on the NPRM suggest that FAA withdraw the proposal and that FAA consider issuing a new NPRM to propose that you:

—inspect certain ANJOU safety belts and restraint systems that are installed in airplanes for defects and service life limits;

—repair defective safety belts and restraint systems that have not reached service life limits; and

—replace safety belts and restraint systems that have reached service life limits.

We agree, and therefore, are withdrawing that NPRM.

What Is the Potential Impact if FAA Took No Action?

These defective safety belts and restraint systems could result in failure of the safety belts and restraint systems. This failure could lead to lack of occupant restraint during normal or crash loads.

Has FAA Taken Any Action to This Point?

We issued a proposal to amend part 39 of the Federal Aviation Regulations (14 CFR part 39) to include an AD that would apply to certain ANJOU (formerly TRW Repa S.A., formerly L'AIGLON) safety belts and restraint systems that are installed in aircraft. This proposal was published in the Federal Register as a notice of proposed rulemaking (NPRM) on September 2, 2003 (68 FR 52145). The NPRM proposed to inspect safety belts and restraint systems for defects and service life limits, and, if necessary, repair safety belts and restraint systems that have not reached service life limits; and replace safety belts and restraint systems that have reached service life limits.

Comments

Was the Public Invited To Comment?

We gave the public the opportunity to participate in the development of this AD. We received no comments on the proposal or on the determination of the cost to the public.

Conclusion

What Is FAA's Final Determination on This Issue?

We have carefully reviewed the available data and determined that air safety and the public interest require adopting the AD as proposed except for minor editorial corrections. We have determined that these minor corrections:

—provide the intent that was proposed in the NPRM for correcting the unsafe condition; and

—do not add any additional burden upon the public than was already proposed in the NPRM.

Changes to 14 CFR Part 39—Effect on the AD

How Does the Revision to 14 CFR Part 39 Affect This AD?

On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How Many Airplanes Does This AD Impact?

We estimate that this AD affects 617 aircraft in the U.S. registry that could have the affected ANJOU safety belts and restraint systems installed. Some aircraft have more than one unit installed.

What Is the Cost Impact of This AD on Owners/Operators of the Affected Airplanes?

We estimate the following costs to accomplish the inspection and repair:

Labor cost | Parts cost | Total cost per 6 safety belts and restraint systems
1 workhour per 6 safety belts and restraint systems × $65 per hour = $65 | No cost | $65

The applicable service information identifies that replacement parts are available free of charge. For replacement of a safety belt assembly, the parts cost is approximately $150 per seat belt assembly. The number of installed safety belts and restraint systems may vary by individual aircraft configuration. Therefore, we have no way of determining the replacement cost for this AD.

Compliance Time of This AD

What Is the Compliance Time of This AD?

The compliance time of this AD is within 50 hours time-in-service (TIS) or 4 calendar months after the effective date of this AD, whichever occurs first.

Why Is the Compliance Time of This AD Presented in Both Hours TIS and Calendar Time?

Defective safety belts and restraint systems are a direct result of use of the safety belts and restraint systems. However, defective safety belts and restraint systems are not necessarily a result of repetitive airplane operation. For example, defective safety belts and restraint systems could occur on an affected airplane within a short period of airplane operation while you could operate another affected airplane for a considerable amount of time without experiencing defective safety belts and restraint systems. Therefore, to assure that any defective safety belt and restraint system is detected and corrected in a timely manner without inadvertently grounding any of the affected airplanes, we are using a compliance time based upon both hours TIS and calendar time.

Regulatory Findings

Will This AD Impact Various Entities?

We have determined that this AD will not have federalism implications under Executive Order 13132. This AD will not have a substantial direct effect on the States, on the relationship between the national government and the States, or on the distribution of power and responsibilities among the various levels of government.

Will This AD Involve a Significant Rule or Regulatory Action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-31-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-26-06 Anjou Aeronautique (Formerly TRW REPA S.A., Formerly L'Aiglon): Amendment 39-13403; Docket No. 2003-CE-31-AD.

When Does This AD Become Effective?

(a) This AD becomes effective on February 17, 2004.

What Other ADs Are Affected by This Action?

(b) None.

What Airplanes Are Affected by This AD?

(c) This AD affects Anjou Aeronautique safety belts and restraint systems specified in paragraph (c)(1) that are installed on, but not limited to, the aircraft specified in paragraph (c)(2) that are certificated in any category:

(1) Anjou Aeronautique safety belts and restraint systems: Part Numbers/Types 343, 343-1, 343AM, 343B, 343BM, 343C, 343CM, 343D, and 343M.

(2) Affected aircraft: The following is a list of aircraft that may incorporate the affected Anjou Aeronautique safety belts and restraint systems:

(i) EUROCOPTER FRANCE Models AS332C, AS332L, AS332L1, AS332L2, and AS350B2 helicopters; and

(ii) SOCATA—Groupe AEROSPATIALE TB 9, TB 10, TB 20, TB 21, TB 200, TMB 700, Rallye 100S, Rallye 150T, Rallye 150ST, Rallye 235E, and Rallye 235C airplanes.

What Is the Unsafe Condition Presented in This AD?

(d) This AD is the result of reports of inadvertent unbuckling of the ANJOU seat belts and two safety recommendations to take AD action. The actions specified in this AD are intended to detect and correct defective safety belts and restraint systems, which could result in failure of the safety belts and restraint systems. This failure could lead to lack of occupant restraint during normal or crash loads.

What Must I Do To Address This Problem?

(e) To address this problem, you must accomplish the following:

Actions | Compliance | Procedures
(1) Inspect the installed Anjou Aeronautique/TRW Repa S.A./L'Aiglon safety belts and restraint systems (types 343, 343-1, 343AM, 343B, 343BM, 343C, 343CM, 343D, or 343M) for: (i) defective buckle latch; and (ii) exceeded service life. | Within the next 50 hours time-in-service (TIS) after February 17, 2004 (the effective date of this AD) or 4 calendar months after February 17, 2004 (the effective date of this AD), whichever occurs first, unless already accomplished. Repetitively inspect thereafter at every 12 calendar months until the affected safety belt and restraint system is replaced as specified by paragraph (e)(3) of this AD | For types 343, 343AM, 343B, 343BM, 343C, 343CM, 343D, or 343M: Follow Anjou Aeronautique Service Bulletin No. No. 343-25-02, Issue 1, dated October 23, 2001. For type 343-1: Follow Anjou Aeronautique Service Bulletin No. 343-1-25-01, Issue 1, dated October 23, 2001.
(2) If any defective buckle latch or safety belt and restraint system with exceeded service life is found during any inspection required by paragraph (e)(1) of this AD: (i) For any defective buckle latch, replace defective parts with new parts. (ii) For any safety belt and restraint system that has exceeded its service life, replace with a non-Anjou Aeronautique/TRW Repa S.A./L'Aiglon FAA-approved safety belt and restraint system. The service life limit for the Anjou Aeronautique/ TRW Repa S.A./L'Aiglon is 60 calendar months after the date of manufacture. | Prior to further flight after any inspection required by paragraph (e)(1) of this AD | For types 343, 343AM, 343B, 343BM, 343C, 343CM, 343D, or 343M: Follow Anjou Aeronautique Service Bulletin No. No. 343-25-02, Issue 1, dated October 23, 2001. For type 343-1: Follow Anjou Aeronautique Service Bulletin No. 343-1-25-01, Issue 1, dated October 23, 2001.
(3) Replace any installed Anjou Aeronautique/TRW Repa S.A./L'Aiglon safety belts and restraint systems (types 343, 343-1, 343AM, 343B, 343BM, 343C, 343CM, 343D, or 343M). Replacement of all safety belts and restraint systems eliminates the need for the repetitive inspections of paragraph (e)(1) of this AD | Prior to exceeding the service life limit of 60 calendar months after the date of manufacture or 4 calendar months after February 17, 2004 (the effective date of this AD), whichever occurs later | Not Applicable.
(4) Do not install any Anjou Aeronautique/TRW Repa S.A./L'Aiglon types 343, 343-1, 343-1, 343M, 343AM, 343B, 343BM, 343C, 343CM, and 343D safety belts and restraint systems | As of February 17, 2004 (the effective date of this AD) | Not Applicable.

Note: All inertia-reel type safety belts and restraint systems or fixed rear safety belts and restraint systems from another manufacturer are not affected by this AD.

What About Alternative Methods of Compliance?

(f) You may request a different method of compliance or a different compliance time for this AD by following the procedures in 14 CFR 39.13. Send your request to the Manager, Manager, Standards Office, Small Airplane Directorate, FAA. For information on any already approved alternative methods of compliance, contact Karl Schletzbaum, Aerospace Engineer, FAA, Small Airplane Directorate, 901 Locust, Room 301, Kansas City, Missouri 64106; telephone: (816) 329-4146; facsimile: (816) 329-4090.

Is There Material Incorporated by Reference?

(g) You must do the actions required by this AD per Anjou Aeronautique Service Bulletin No. 343-25-02, Issue 1, dated October 23, 2001, and Anjou Aeronautique Service Bulletin No. 343-1-25-01, Issue 1, dated October 23, 2001. The Director of the Federal Register approved the incorporation by reference of this service bulletin in accordance with 5 U.S.C. 552(a) and 1 CFR part 51. You may get a copy from Anjou Aeronautique, 13 Avenue De L'Osier, 49125 Tierce, France; telephone: 33 0 2 41 42 88 92; facsimile: 33 0 2 41 42 15 77. You may review copies at FAA, Central Region, Office of the Regional Counsel, 901 Locust, Room 506, Kansas City, Missouri 64106; or at the Office of the Federal Register, 800 North Capitol Street, NW, suite 700, Washington, DC.

Issued in Kansas City, Missouri, on December 17, 2003.
Michael Gallagher,
Manager, Small Airplane Directorate, Aircraft Certification Service.

[FR Doc. 03-31666 Filed 12-30-03; 8:45 am]

BILLING CODE 4910-13-P